ENVIRONMENTAL PROTECTION AGENCY

40 CFR Part 300

[FRL-7238-3]

National Oil and Hazardous Substances Pollution Contingency Plan; National Priorities List

AGENCY: Environmental Protection Agency.

ACTION: Notice of intent to delete the Hopkins Farm Superfund Site from the National Priorities List.

SUMMARY: The Environmental Protection Agency (EPA), Region 2, is issuing a Notice of Intent to Delete the Hopkins Farm Superfund Site (Site), located in Plumsted Township, Ocean County, New Jersey, from the National Priorities List (NPL) and requests public comment on this Notice of Intent.

The NPL is appendix B of the National Oil and Hazardous Substances Pollution Contingency Plan (NCP), 40 CFR part 300, which EPA promulgated pursuant to section 105 of the Comprehensive Environmental Response, Compensation, and Liability Act (CERCLA) of 1980, as amended. The EPA and the State of New Jersey, through the New Jersey Department of Environmental Protection, have determined that all responsible parties or other parties have implemented appropriate response actions and no further actions are required.

In the “Rules and Regulations” Section of today's Federal Register, EPA is publishing a Direct Final Notice of Deletion of the Hopkins Farm Superfund Site without prior notice because EPA views this as a noncontroversial revision and anticipates no significant adverse comment. EPA has explained our reasons for this deletion in the preamble to the Direct Final Deletion. If EPA receives no significant adverse comment(s) on the Direct Final Notice of Deletion, EPA will not take further action on this Notice of Intent to Delete. If EPA receives significant adverse comment(s), EPA will withdraw the Direct Final Notice of Deletion and it will not take effect. EPA will, as appropriate, address all public comments. If, after evaluating public comments, EPA decides to proceed with deletion, EPA will do so in a subsequent Final Deletion Notice based on this Notice of Intent to Delete. EPA will not institute a second comment period on this Notice of Intent to Delete. Any parties interested in commenting must do so at this time. For additional information, see the Direct Final Notice of Deletion which is located in the Rules section of this Federal Register.

DATES: Comments concerning this Site must be received by July 29, 2002.

ADDRESSES: Written comments should be addressed to: Trevor Anderson, Remedial Project Manager, Emergency and Remedial Response Division, U.S. Environmental Protection Agency, Region 2, 290 Broadway, 19th Floor, New York, New York 10007-1866.

FOR FURTHER INFORMATION CONTACT: Mr. Trevor Anderson at the address provided above, or by telephone at (212) 637-4425, by Fax at (212) 637-4429 or via e-mail at Anderson.Trevor@EPA.GOV.

SUPPLEMENTARY INFORMATION: For additional information, see the Direct Final Notice of Deletion which is located in the Rules section of this Federal Register.

Authority: 33 U.S.C. 1321(c)(2); 42 U.S.C. 9601-9675; E.O. 12777, 56 FR 54757, 3 CFR, 1991 Comp.; p. 351; E.O. 12580, 52 FR 2923, 3 CFR, 1987 Comp.; p. 193.

Dated: June 14, 2002.
Jane M. Kenny,
Regional Administrator, U.S. EPA, Region 2.

[FR Doc. 02-16269 Filed 6-27-02; 8:45 am]

BILLING CODE 6560-50-P